DEPARTMENT OF HOMELAND SECURITY

[Docket No. DHS-2012-0064]

Homeland Security Advisory Council; Open Teleconference Meeting

AGENCY: Office of Policy, Department of Homeland Security.

ACTION: Notice of Correction of the Notice of Federal Advisory Committee Meeting for: Notice of Open Teleconference Federal Advisory Committee Meeting.

SUMMARY: This notice corrects the date of the teleconference meeting of the Homeland Security Advisory Council (HSAC) that was published in the October 22, 2012, Federal Register at FR 77 64532. The date was incorrectly listed as Thursday, November 8, 2012. The correct date of the meeting is Wednesday, November, 7, 2012, and the time of the teleconference remains 4:00 p.m. to 5:00 p.m. EST.

FOR FURTHER INFORMATION CONTACT: William Smith, Director, hsac@dhs.gov or 202-282-9445.

SUPPLEMENTARY INFORMATION: Notice of correction of this meeting is given under the Federal Advisory Committee Act (FACA), Public Law 92-463, as amended, 5 U.S.C. App.

As stated in the notice published on October 22, 2012, members of the public must contact a staff member of the HSAC to obtain the call-in teleconference number, and they will be advised at that time of the correct date of the teleconference.

Becca Sharp,
Executive Director, Homeland Security Advisory Council, DHS.

[FR Doc. 2012-26327 Filed 10-25-12; 8:45 am]

BILLING CODE 9110-09-P